COMMITTEE FOR PURCHASE FROM PEOPLE WHO ARE BLIND OR SEVERELY DISABLED

Procurement List; Proposed Addition and Deletions

AGENCY: Committee for Purchase From People Who Are Blind or Severely Disabled.

ACTION: Proposed Addition to and Deletions from the Procurement List.

SUMMARY: The Committee is proposing to add a service to the Procurement List that will be provided by a nonprofit agency employing persons who are blind or have other severe disabilities, and deletes services previously provided by such agencies.

Comments Must Be Received on Or Before: August 26, 2013.

ADDRESSES: Committee for Purchase From People Who Are Blind or Severely Disabled, 1401 S. Clark Street, Suite 10800, Arlington, Virginia, 22202-4149.

FOR FURTHER INFORMATION OR TO SUBMIT COMMENTS CONTACT: Patricia Briscoe, Telephone: (703) 603-7740, Fax: (703) 603-0655, or email CMTEFedReg@AbilityOne.gov.

SUPPLEMENTARY INFORMATION: This notice is published pursuant to 41 USC 8503 (a)(2) and 41 CFR 51-2.3. Its purpose is to provide interested persons an opportunity to submit comments on the proposed actions.

Addition

If the Committee approves the proposed addition, the entity of the Federal Government identified in this notice will be required to procure the service listed below from the nonprofit agency employing persons who are blind or have other severe disabilities.

The following service is proposed for addition to the Procurement List for provision by the nonprofit agency listed:

Service

Service Type/Location: Facility and Grounds Maintenance Service US Army Corps of Engineers, Wallisville Lake 20020 IH-10 East Feeder Road Wallisville, TX.

NPA: Training, Rehabilitation, & Development Institute, Inc., San Antonio, TX.

Contracting Activity: DEPT OF THE ARMY, W076 ENDIST GALVESTON, GALVESTON, TX.

Deletions

The following services are proposed for deletion from the Procurement List:

Services

Service Type/Location: Mailing Service, VA Eastern Colorado Health Care System (ECHCS), 1055 Clermont Street, Denver, CO.

NPA: Jewish Family Service of Colorado, Denver, CO.

Contracting Activity: DEPARTMENT OF VETERANS AFFAIRS, 259-NETWORK CONTRACT OFFICE 19, GLENDALE, CO.

Service Type/Location: Document Destruction, USDA, Farm Service Agency, 4300 Goodfellow Blvd., St. Louis, MO.

NPA: Vintage Support Group, Inc.—Deleted, Belleville, IL

Contracting Activity: DEPARTMENT OF AGRICULTURE, FARM SERVICE AGENCY, KANSAS CITY ACQUISITION BRANCH, KANSAS CITY, MO.

Patricia Briscoe,
Deputy Director, Business Operations (Pricing and Information Management).

[FR Doc. 2013-17982 Filed 7-25-13; 8:45 am]

BILLING CODE 6353-01-P